DEPARTMENT OF HEALTH AND HUMAN SERVICES

Centers for Disease Control and Prevention

[30Day-15-0214]

Proposed Data Collections Submitted for Public Comment and Recommendations

The Centers for Disease Control and Prevention (CDC), as part of its continuing effort to reduce public burden, invites the general public and other Federal agencies to take this opportunity to comment on proposed and/or continuing information collections, as required by the Paperwork Reduction Act of 1995. To request more information on the below proposed project or to obtain a copy of the information collection plan and instruments, call 404-639-7570 or send comments to LeRoy Richardson, 1600 Clifton Road, MS-D74, Atlanta, GA 30333 or send an email to omb@cdc.gov.

Comments submitted in response to this notice will be summarized and/or included in the request for Office of Management and Budget (OMB) approval. Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information. Written comments should be received within 30 days of this notice.

Proposed Project

National Health Interview Survey (NHIS) (OMB No. 0920-0214, expires 03/31/2016)—Revision—National Center for Health Statistics (NCHS), Centers for Disease Control and Prevention (CDC).

Background and Brief Description

Section 306 of the Public Health Service (PHS) Act (42 U.S.C. 242k), as amended, authorizes that the Secretary of Health and Human Services (DHHS), acting through NCHS, shall collect data on the extent and nature of illness and disability of the population of the United States. The annual National Health Interview Survey is a major source of general statistics on the health of the U.S. population and has been in the field continuously since 1957. Clearance is sought for three years, to collect data for 2015, 2016, and 2017.

This voluntary and confidential household-based survey collects demographic and health-related information on a nationally representative sample of persons and households throughout the country. Personal identification information is requested from survey respondents to facilitate linkage of survey data with health-related administrative and other records. Each year we collect information from approximately 55,000 households, which contain about 137,500 individuals.

Information is collected using computer assisted personal interviews (CAPI). A core set of data is collected each year that remains largely unchanged while sponsored supplements vary from year to year. The core set includes socio-demographic characteristics, health status, health care services, and health behaviors. For 2015, supplemental questions will be cycled in pertaining to cancer control, epilepsy, and inflammatory bowel disease and occupational health.

Supplemental topics that continue or are enhanced from 2014 will be related to food security, heart disease and stroke, children's mental health, disability and functioning, sexual orientation, smokeless tobacco and e-cigarettes, immunizations, and computer use. Questions on the Affordable Care Act from 2014 have been reduced in number in 2015. In addition, a follow-back survey will be conducted on previous NHIS respondents. The follow-back survey will focus on topics related to the Affordable Care Act including health care access and use, and health insurance coverage and will include multiple modes of contacting respondents.

To improve the analytic utility of NHIS data, minority populations are oversampled annually. In 2015, sample augmentation procedures used in previous years will continue to increase the number of African American, Hispanic, and Asian American persons.

In accordance with the 1995 initiative to increase the integration of surveys within the DHHS, respondents to the NHIS serve as the sampling frame for the Medical Expenditure Panel Survey conducted by the Agency for Healthcare Research and Quality. The NHIS has long been used by government, academic, and private researchers to evaluate both general health and specific issues, such as cancer, diabetes, and access to health care. It is a leading source of data for the Congressionally mandated “Health US” and related publications, as well as the single most important source of statistics to track progress toward the National Health Promotion and Disease Prevention Objectives, “Healthy People 2020.”

The total annualized burden hours have increased by 3,333 hours to 48,833 hours. There is no cost to the respondents other than their time.

Estimated Annualized Burden Hours
Type of respondent | Form name | Number of respondents | Number of responses per respondent | Average burden per response (in hours)
Adult Family Member | Screener Questionnaire | 10,000 | 1 | 5/60
Adult Family Member | Family Core | 45,000 | 1 | 23/60
Sample Adult | Adult Core | 36,000 | 1 | 15/60
Adult Family Member | Child Core | 14,000 | 1 | 10/60
Adult Family Member | Supplements | 45,000 | 1 | 20/60
Adult Family Member | Followback | 12,000 | 1 | 20/60
Adult Family Member | Reinterview Survey | 5,000 | 1 | 5/60

Leroy A. Richardson,
Chief, Information Collection Review Office, Office of Scientific Integrity, Office of the Associate Director for Science, Office of the Director, Centers for Disease Control and Prevention.

[FR Doc. 2014-28233 Filed 12-1-14; 8:45 am]

BILLING CODE 4163-18-P